DEPARTMENT OF EDUCATION

Office of Elementary and Secondary Education, Overview Information; Advanced Placement Incentive (API) Program; Notice Inviting Applications for New Awards for Fiscal Year (FY) 2006

Catalog of Federal Domestic Assistance (CFDA) Number: 84.330C.

DATES:

Applications Available: February 17, 2006.

Deadline for Notice of Intent to Apply: March 17, 2006.

Deadline for Transmittal of Applications: April 18, 2006.

Deadline for Intergovernmental Review: June 19, 2006.

Eligible Applicants:

(a) State educational agencies (SEAs);

(b) Local educational agencies (LEAs), including charter schools that are considered LEAs under State law; or

(c) National nonprofit educational entities with expertise in advanced placement services.

Note: In the case of an eligible entity that is an SEA, the SEA may use API grant funds to award subgrants to LEAs to enable those LEAs to carry out authorized activities that meet the absolute priority for this competition.

Estimated Available Funds: $15.3 million. Contingent upon the availability of funds and quality of applications, the Secretary may make additional awards for FY 2007 from the list of unfunded applicants from this competition.

Estimated Range of Awards: $500,000-$1,000,000.

Estimated Average Size of Awards: $611,000.

Estimated Number of Awards: 25.

Note: The Department is not bound by any estimates in this notice.

Note: In accordance with section 1703 of the Elementary and Secondary Education Act of 1965, as amended by the No Child Left Behind Act of 2001 (ESEA) these estimates are based on the amount of funds the Secretary estimates will be available after the Department has awarded grants under the Advanced Placement Test Fee program, which is being announced separately under CFDA number 84.330B.

Project Period: Up to 36 months.

Full Text of Announcement

I. Funding Opportunity Description

Purpose of Program: The API program, authorized under section 1705 of Title I, Part G of the ESEA, awards competitive grants designed to increase the successful participation of low-income students in advanced placement courses and tests. By supporting increased access to and participation in advanced placement courses and tests, the program provides greater opportunities for low-income students to achieve to high standards in English, mathematics, science, and other core subjects.

Priorities: This competition includes one absolute priority, five competitive preference priorities, and two invitational priorities. In accordance with 34 CFR 75.105(b)(2)(iv) and (b)(2)(v), these priorities are from the priorities and allowable activities specified in section 1705(c) and (d) of the ESEA (20 U.S.C. 6535-6537).

Absolute Priority: For FY 2006 and any subsequent year in which we make awards based on the list of unfunded applicants from this competition, this priority is an absolute priority. Under 34 CFR 75.105(c)(3) we consider only applications that meet this priority.

This priority is:

Implementation of Advanced Placement Programs in High-Poverty Schools. The Secretary establishes an absolute priority for applications that:

Propose to develop, enhance, or expand advanced placement programs in high schools with a high concentration of low-income students and a pervasive need for access to advanced placement programs. Effective advanced placement programs, including, but not limited to, advanced placement programs administered by the College Board and the International Baccalaureate Organization, should be designed to increase the number of low-income students who enroll and succeed in advanced placement courses and tests.

Note: For definitions of advanced placement test, low-income individual (including a list of the types of data that may be used to verify low-income status), and high concentration of low-income students, see the definitions in Section III. 3. Other of this notice.

Allowable Activities: Activities supported under this competition must be designed to expand access for low-income individuals to advanced placement programs and must involve one or more of the following:

• Teacher training.

• Pre-advanced placement course development.

• Coordination and articulation between grade levels to prepare students to enroll and succeed in advanced placement courses.

• Books and supplies.

• Activities to increase the availability of, and participation in, on-line advanced placement courses.

• Any other activity directly related to expanding access to and participation in advanced placement incentive programs, particularly for low-income individuals.

Competitive Preference Priorities: For FY 2006 and any subsequent year in which we make awards based on the list of unfunded applicants from this competition, these priorities are competitive preference priorities. Under 34 CFR 75.105(c)(2), we give preference to and will award up to an additional nineteen (19) points to an application that meets one or more of these priorities over an application of comparable merit that does not meet one or more of these priorities.

These priorities are:

Competitive Preference Priority 1: Up to eight (8) points for demonstrating a focus on developing or expanding advanced placement programs and participation in the core academic areas of English, mathematics, and science.

Competitive Preference Priority 2: Up to five (5) points for developing or expanding pre-advanced placement courses or programs, aligned with advanced placement courses or programs, intended to provide middle or high school students with the critical thinking skills, content knowledge, and study habits necessary for successful participation in advanced placement courses and exams. Applicants should explain why the courses supported by the proposed project qualify as pre-advanced placement or advanced placement.

Competitive Preference Priority 3: Up to two (2) points for demonstrating the involvement of business and community organizations in the activities assisted.

Competitive Preference Priority 4: Up to two (2) points for demonstrating the availability of matching funds from State, local, or other sources to pay for a portion of the cost of activities to be assisted.

Competitive Preference Priority 5: Up to two (2) points for demonstrating the intent to carry out activities to increase the availability of, and participation in, on-line advanced placement courses.

Note: These priority points are in addition to any points the applicant earns under the selection criteria described elsewhere in this notice (See V. Application Review Information). In order to receive additional points under a competitive preference priority, an application must provide documentation supporting its claim that it meets each priority addressed.

Invitational Priorities: For FY 2006 and any subsequent year in which we make awards based on the list of unfunded applicants from this competition, these priorities are invitational priorities. Under 34 CFR 75.105(c)(1), we do not give an application that meets these invitational priorities a competitive or absolute preference over other applications.

These priorities are:

Invitational Priority 1: Development of Advanced Placement Courses in Critical Foreign Languages. The Secretary encourages applicants to develop, enhance, or expand advanced placement courses in the critical foreign languages of Arabic, Chinese, Korean, Japanese, Russian, and languages in the Indic, Iranian, and Turkic language families.

Invitational Priority 2: Development of Advanced Placement Programs in Public Schools Identified for Improvement, Corrective Action, or Restructuring Under Title I, Part A of the ESEA. The Secretary encourages applicants to develop, enhance, or expand advanced placement programs in English, mathematics, science, foreign languages, or other core academic areas in schools with a high concentration of low-income students that have been identified for improvement, corrective action, or restructuring under Title I, Part A of the ESEA.

Program Authority: 20 U.S.C. 6535-6537.

Applicable Regulations: The Education Department General Administrative Regulations (EDGAR) in 34 CFR parts 74, 75, 77, 79, 80, 81, 82, 84, 85, 86, 97, 98, and 99.

Note: The regulations in 34 CFR part 86 apply to institutions of higher education only.

II. Award Information

Type of Award: Discretionary grants.

Estimated Available Funds: $15.3 million. Contingent upon the availability of funds and quality of applications, the Secretary may make additional awards for FY 2007 from the list of unfunded applicants from this competition.

Estimated Range of Awards: $500,000—$1,000,000.

Estimated Average Size of Awards: $611,000.

Estimated Number of Awards: 25.

Note: The Department is not bound by any estimates in this notice.

Note: In accordance with section 1703 of the ESEA, these estimates are based on the amount of funds the Secretary estimates will be available after the Department has awarded grants under the Advanced Placement Test Fee program, which is being announced separately under CFDA number 84.330B.

Project Period: Up to 36 months.

III. Eligibility Information

1. Eligible Applicants:

(a) SEAs;

(b) LEAs, including charter schools that are considered LEAs under State law; or

(c) National nonprofit educational entities with expertise in advanced placement services.

Note: In the case of an eligible entity that is an SEA, the SEA may use API grant funds to award subgrants to LEAs to enable those LEAs to carry out authorized activities that support the absolute priority for this competition.

2. Cost Sharing or Matching: This competition does not involve cost sharing or matching but does involve supplement-not-supplant funding provisions.

Supplement-not-Supplant: Funds provided under this program must be used only to supplement, and not supplant, other non-Federal funds that are available to assist low-income individuals in paying advanced placement test fees or to expand access to advanced placement or pre-advanced placement courses (20 U.S.C. 6536).

3. Other: Definitions. The following definitions are taken from the API program authorizing statute in Title I, Part G of the ESEA (20 U.S.C. 6537). They are repeated in this application notice for the convenience of the applicant.

(a) The term advanced placement test means an advanced placement test administered by the College Board or approved by the Secretary.

Note: The Department approves advanced placement tests administered by the International Baccalaureate Organization. As part of the grant application process, applicants may request approval of tests from other educational entities that provide comparable programs of rigorous academic courses and testing through which students may earn college credit.

(b) The term high concentration of low-income students, used with respect to a school, means a school that serves a student population 40 percent or more of whom are low-income individuals.

(c) The term low-income individual means an individual who is determined by an SEA or LEA to be a child, ages 5 through 19, from a low-income family on the basis of data used by the Secretary to determine allocations under section 1124 of the ESEA, data on children eligible for free or reduced-price lunches under the National School Lunch Act, data on children in families receiving assistance under Part A of Title IV of the Social Security Act, or data on children eligible to receive medical assistance under the Medicaid program under Title XIX of the Social Security Act, or through an alternate method that combines or extrapolates from those data.

IV. Application and Submission Information

1. Address to Request Application Package: You may obtain an application package via Internet or from the Education Publications Center. To obtain a copy via Internet use the following address: http://www.ed.gov/fund/grant/apply/grantapps/index.

To obtain a copy from ED Pubs, write or call the following: Education Publications Center, P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.330C.

Individuals with disabilities may obtain a copy of the application package in an alternative format (e.g., Braille, large print, audiotape, or computer diskette) by contacting the program contact person listed elsewhere in this notice under FOR FURTHER INFORMATION CONTACT (see VII. Agency Contact).

2. Content and Form of Application Submission: Requirements concerning the content of an application, together with the forms you must submit, are in the application package for this program.

Notice of Intent to Apply: Applicants that plan to apply for funding under this program notice are encouraged to indicate an intent to apply via e-mail notification sent to the API program at advancedplacementprogram@ed.gov no later than March 17, 2006. Applicants that fail to supply this e-mail notification may still apply for funding under this notice.

Page Limit for Project Narrative: The project narrative is where you, the applicant, address the selection criteria (i.e., within the context of the absolute priority) as well as the competitive preference priorities that reviewers use to evaluate your application. Applicants are strongly encouraged to limit the project narrative (text plus all figures, charts, tables, and diagrams) to the equivalent of no more than 25 pages, using the following standards:

• A “page” is 8.5″ x 11″, on one side only, with 1″ margins at the top, bottom, and both sides.

• Double space (no more than three lines per vertical inch) all text in the project narrative, including titles, headings, footnotes, quotations, references, and captions, as well as all text in charts, tables, figures, and graphs.

• Use a font that is either 12-point or larger or no smaller than 10 pitch (characters per inch).

• The recommended page limit does not apply to the cover sheet; the budget section, including the budget narrative justification; the assurances and certifications; the project abstract; the resumes; and the appendices.

3. Submission Dates and Times: Applications Available: February 17, 2006.

Deadline for Notice of Intent to Apply: March 17, 2006.

Deadline for Transmittal of Applications: April 18, 2006.

Applications for grants under the API program must be submitted electronically using the Grants.gov Apply site (Grants.gov). For information (including dates and times) about how to submit your application electronically or by mail or hand delivery if you qualify for an exception to the electronic submission requirement, please refer to section IV.6. Other Submission Requirements in this notice.

We do not consider an application that does not comply with the application requirements.

Deadline for Intergovernmental Review: June 19, 2006.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this program must be submitted electronically unless you qualify for an exception to this requirement in accordance with the instructions in this section.

a. Electronic Submission of Applications.

Applications for grants under the API program—CFDA Number 84.330C must be submitted electronically using the Grants.gov Apply site at: http://www.grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the API program at: http://www.grants.gov. You must search for the downloadable application package for this program by the CFDA number. Do not include the CFDA number's alpha suffix in your search.

Please note the following:

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://eGrants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you qualify for an exception to the electronic submission requirement, as described elsewhere in this section, and submit your application in paper format.

• You must submit all documents electronically, including all information typically included on the Application for Federal Education Assistance (ED 424), Budget Information—Non-Construction Programs (ED 524), and all necessary assurances and certifications. You must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of Technical Issues with the Grants.gov System: If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of/or technical problems with the Grants.gov system. We will not grant you an extension if you failed to fully register to submit your application to Grants.gov before the deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Madeline Baggett, U.S. Department of Education, 400 Maryland Avenue, SW., Room 3C153, Washington, DC 20202-6200. FAX: (202) 205-4921.

Your paper application must be submitted in accordance with the mail or hand delivery instructions described in this notice.

b. Submission of Paper Applications by Mail.

If you qualify for an exception to the electronic submission requirement, you may mail (through the U.S. Postal Service or a commercial carrier), your application to the Department. You must mail the original and two copies of your application, on or before the application deadline date, to the Department at the applicable following address:

By mail through the U.S. Postal Service: U.S. Department of Education, Application Control Center, Attention: (CFDA Number 84.330C), 400 Maryland Avenue, SW., Washington, DC 20202-4260.

or

By mail through a commercial carrier: U.S. Department of Education, Application Control Center—Stop 4260, Attention: (CFDA Number 84.330C), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.330C), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the Application for Federal Education Assistance (ED 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and section 1705(f) of the ESEA. These selection criteria apply to the absolute priority and allowable activities only. The maximum score for all of the selection criteria is 100 points. The maximum score for each criterion is indicated in parentheses with the criterion. The maximum number of points an application may earn based on the competitive preference priorities and the selection criteria is 119 points. The criteria are as follows:

(a) Quality of the Project Design (30 points). The Secretary considers the quality of the design of the proposed project. In determining the quality of the design of the proposed project, the Secretary considers the extent to which the proposed project represents an exceptional approach for meeting the absolute priority established for this competition.

(b) Quality of Project Services (20 points). The Secretary considers the quality of the services to be provided by the proposed project. In determining the quality of the services to be provided by the proposed project, the Secretary considers the quality and sufficiency of strategies for ensuring equal access and treatment for eligible project participants who are members of groups that have been traditionally underrepresented based on race, color, national origin, gender, age, or disability. In addition, the Secretary considers the following factors:

(1) The likelihood that the services to be provided by the proposed project will lead to improvements in the achievement of students as measured against rigorous academic standards.

(2) The extent to which the training or professional development services to be provided by the proposed project are of sufficient quality, intensity, and duration to lead to improvements in practice among the recipients of those services.

(c) Quality of the Management Plan (20 points). The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) The extent to which the time commitments of the project director and other key project personnel are appropriate and adequate to meet the objectives of the proposed project.

(d) Quality of the Project Evaluation (30 points). The Secretary considers the quality of the evaluation to be conducted of the proposed project. In determining the quality of the evaluation, the Secretary considers the following factors:

(1) The extent to which the methods of evaluation include the use of objective performance measures that are clearly related to the intended outcomes of the project and will produce quantitative and qualitative data to the extent possible.

(2) The extent to which the evaluation meets the reporting requirements of section 1705(f)(1) of the ESEA.

Note: A strong evaluation plan should be included in the project narrative and should be used, as appropriate, to shape the development of the project from the beginning of the grant period. The plan should include benchmarks to monitor progress toward specific project objectives and also outcome measures to assess the impact on teaching and learning or other important outcomes for project participants. More specifically, the plan should identify the individual or organization that has agreed to serve as evaluator for the project and describe the qualifications of that evaluator. The plan should describe the evaluation design, indicating: (1) What types of data will be collected; (2) when various types of data will be collected; (3) what methods will be used; (4) what instruments will be developed and when; (5) how the data will be analyzed; (6) when reports of results and outcomes will be available; and (7) how the applicant will use the information collected through the evaluation to monitor progress of the funded project and to provide accountability information both about success at the initial site and about effective strategies for replication in other settings. Applicants are encouraged to devote an appropriate level of resources to project evaluation.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

Grant Administration: Applicants approved for funding under this competition may be required to attend an annual Grants Administration meeting. The cost of attending this one-to three-day meeting may be paid from API program grant funds or State or local resources.

3. Reporting: At the end of your project period, you must submit a final performance report, including financial information, as directed by the Secretary. If you receive a multi-year award, you must submit an annual performance report that meets the reporting requirements in section 1705(f)(1) of the ESEA and provides the most current performance and financial expenditure information as specified by the Secretary in 34 CFR 75.118. For specific requirements on grantee reporting, please go to http://www.ed.gov/fund/grant/apply/appforms/appforms.html.

4. Performance Measures: The Secretary has developed five performance measures for assessing the effectiveness of the two Advanced Placement programs authorized under Title I, Part G of the ESEA. These measures are:

(1) The number of advanced placement tests taken by low-income public school students nationally.

(2) The number of advanced placement tests taken by Hispanic, Black, and Native American public school students nationally.

(3) The number and percent of advanced placement tests passed by low-income public school students nationally.

(4) The number of College Board and International Baccalaureate advanced placement tests taken in public high schools served by API grants, divided by the total number of juniors and seniors enrolled at such schools.

(5) The cost per passage of an advanced placement test by a low-income public school student (i.e., amount provided for AP test fees divided by the total number of tests passed by low-income students).

Note: Measure number 4 is applicable to the API program and should be addressed within the project objectives and outcomes for the grant.

VII. Agency Contact

For Further Information Contact: Madeline E. Baggett, U.S. Department of Education, 400 Maryland Avenue, SW., Room 3C153, Washington, DC 20202-6200. Telephone number: (202) 260-2502 or by e-mail: madeline.baggett@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 14, 2006.
Henry L. Johnson,
Assistant Secretary for Elementary and Secondary Education.

[FR Doc. 06-1506 Filed 2-16-06; 8:45 am]

BILLING CODE 4000-01-P